DEPARTMENT OF EDUCATION

Peer Review Opportunities With the U.S. Department of Education's Office of Elementary and Secondary Education, Office of Postsecondary Education, and Office of Special Education and Rehabilitative Services

AGENCY: Office of Elementary and Secondary Education, Office of Postsecondary Education, and Office of Special Education and Rehabilitative Services, Department of Education.

ACTION: Announcement.

SUMMARY: The U.S. Department of Education (Department) announces opportunities for individuals to participate in its peer review process by reviewing applications for competitive grant funding.

DATES: Requests to serve as a peer reviewer will be accepted on an ongoing basis aligned with this year's grant competition schedule. The Department's peer review began in January 2020 and will continue through the end of the calendar year. A list of grant programs with expected competitions during this timeframe is posted on the Department's website under “Forecast of Funding Opportunities” at https://www2.ed.gov/fund/grant/find/edlite-forecast.html. Although the list in this link is inclusive of all Department grant competitions for which peer reviewers are needed, this notice highlights the specific needs of the Office of Elementary and Secondary Education (OESE—Chart 2), the Office of Postsecondary Education (OPE—Chart 3), and the Office of Special Education and Rehabilitative Services (OSERS—Charts 4 and 4b). The Department will accept submissions throughout the year on a rolling basis. Requests to serve as a peer reviewer should be submitted four weeks prior to the program's application deadline noted on the forecast page.

ADDRESSES: An individual interested in serving as a peer reviewer must register and upload his or her resume in the Department's grants management system known as “G5” at www.g5.gov. Additionally, individuals interested in serving as peer reviewers for an OESE competition should also submit their resumes by electronic mail to the following email address: OESEPeerReviewRecruitment@ed.gov with the subject line “Prospective 2020 Peer Reviewer.”

FOR FURTHER INFORMATION CONTACT: OESE: State and Grantee Relations, U.S. Department of Education, 400 Maryland Avenue SW, Washington, DC 20202-7240. Telephone: (202) 453-5563. Email: OESEPeerReviewRecruitment@ed.gov. OPE: Tonya Hardin, U.S. Department of Education, 400 Maryland Avenue SW, Room 278-12, Washington, DC 20202. Telephone: (202) 453-7694. Email: Tonya.Hardin@ed.gov. OSERS: Michael Gross, U.S. Department of Education, 400 Maryland Avenue SW, Room 5103, Potomac Center Plaza, Washington, DC 20202-5076. Telephone: (202) 245-6718. Email: Michael.Gross@ed.gov.

If you use a telecommunications device for the deaf (TDD) or a text telephone (TTY), call the Federal Relay Service (FRS), toll free, at 1-800-877-8339.

SUPPLEMENTARY INFORMATION: The mission of the Department is to promote student achievement and preparation for global competitiveness by fostering educational excellence and ensuring equal access. The Department pursues its mission by funding programs that will improve access to high-quality educational opportunities and programs that pursue innovations in teaching and learning. Grant funds are awarded to State educational agencies, local educational agencies (i.e., school districts), nonprofit organizations, institutions of higher education (IHEs), and other entities through a competitive process referred to as a grant competition.

Each year, typically beginning in January, the Department convenes panels of external education professionals and practitioners to serve as peer reviewers. Peer reviewers evaluate and score submitted applications against program-specific criteria. Application scores are then used to inform the Secretary's funding decisions.

This year, OESE plans to manage over 20 grant competitions to fund a range of projects that support community schools, early learning, education innovation and research, educator development, charter and magnet schools, literacy, private school vouchers, school improvement, school safety, and American Indian/Alaska Native education.

Similarly, OPE expects to conduct nearly 20 grant competitions to fund a wide range of projects, including: Projects to support improvements in educational quality, management, and financial stability at colleges that enroll high numbers of minority and financially disadvantaged students; projects to provide high-quality support services to improve retention and graduation rates of low-income and first generation college students; projects designed to strengthen foreign language instruction, area and international studies teaching and research, professional development for educators, and curriculum development at the K-12, graduate, and postsecondary levels; and other innovative projects designed to improve postsecondary education.

OSERS expects to conduct approximately 24 grant competitions to fund a wide range of projects, which will take place between April 2020 and September 2020. Specifically, the competitions in OSERS' Office of Special Education Programs (OSEP) will include State Personnel Development Grants (SPDG), Personnel Development (PD), Technical Assistance and Dissemination (TA&D), Educational Technology, Media, and Materials (ETechM2), Parent Training and Information, and Technical Assistance on State Data Collection. The competitions in OSERS' Rehabilitation Services Administration (RSA) will include Rehabilitation Long-Term Training, Demonstration and Training Programs, Innovative Rehabilitation Training, Parent Training and Information, American Indian Vocational Rehabilitation Services (AIVRS), Vocational Rehabilitation Technical Assistance Centers, Capacity Building, and Independent Living Services for Older Individuals Who Are Blind (OIB).

The Department seeks to expand its pool of peer reviewers to ensure that applications are evaluated by individuals with up-to-date and relevant knowledge of educational interventions and practices across the learning continuum, from early education to college and career, and a variety of learning settings, including early learning centers, charter schools, public schools, Tribally-operated schools, and private schools. Department peer reviewers are education professionals who have gained subject matter expertise through their education and work, for example, as teachers, professors, principals, administrators, school counselors, researchers, evaluators, content developers, and advocates. Peer reviewers can be active education professionals, in any educational level or sector, or those who are retired but stay informed of current educational content and issues. No prior experience as a peer reviewer is required.

Peer reviewers for each competition will be selected based on several factors, including each reviewer's program-specific expertise; the number of applications to be reviewed; and the availability of prospective reviewers. Individuals selected to serve as peer reviewers are expected to participate in training; independently read, score, and provide written evaluative comments on assigned applications; and participate in facilitated panel discussions. Panel discussions are held in person in the Washington, DC area or via conference calls. The time commitment for peer reviewers can range from a few to several hours a day over a period of one to four weeks. Peer reviewers receive an honorarium payment as monetary compensation for successfully reviewing applications and are compensated for travel and per diem for panel discussions that take place in person in the Washington, DC area.

If you are interested in serving as a peer reviewer for the Department, you should first review the program web pages of the grant programs that match your area of expertise. You can access information on each grant program from the link provided on the Department's grants forecast page at https://www2.ed.gov/fund/grant/find/edlite-forecast.html. If you have documented experience that you believe qualifies you to serve as a peer reviewer for one or more specific grant programs, please register in G5, at www.g5.gov, which allows the Department to manage and assign potential peer reviewers to competitions that may draw upon their professional backgrounds and expertise. A toolkit that includes helpful information on how to be considered as a peer reviewer for programs administered by the Department can be found at https://www2.ed.gov/documents/peer-review/peer-reviewer-toolkit.pptx.

If you have interest in serving as a reviewer specifically for OESE competitions (Chart 2) also send your resume to OESEPeerReview Recruitment@ed.gov. The subject line of the email should read “Prospective 2020 Peer Reviewer.” In the body of the email list all programs for which you would like to be considered to serve as a peer reviewer. Neither the submission of a resume nor registration in G5 guarantees you will be selected to be a peer reviewer.

Requests to serve as a peer reviewer should be submitted four weeks prior to the program's application deadline, noted on the forecast page, to provide program offices with sufficient time to review resumes and determine an individual's suitability to serve as a peer reviewer for a specific competition. If you are selected to serve as a peer reviewer, the program office will contact you.

Accessible Format: Individuals with disabilities can obtain this document in an accessible format (e.g., braille, large print, audiotape, or compact disc) on request to the person listed under FOR FURTHER INFORMATION CONTACT.

Electronic Access to This Document: The official version of this document is the document published in the Federal Register. You may access the official edition of the Federal Register and the Code of Federal Regulations at www.gpo.gov/fdsys. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Program Authority: Elementary and Secondary Education Act of 1965, as amended (20 U.S.C. 6301 et seq.), Higher Education Act of 1965, as amended (20 U.S.C. 1001 et seq.), Individuals with Disabilities Education Act (20 U.S.C. 1400 et seq.), and the Rehabilitation Act of 1973, as amended by the Workforce Innovation and Opportunity Act (29 U.S.C. 701 et seq.).

Dated: February 25, 2020.
Frank T. Brogan,
Assistant Secretary for Elementary and Secondary Education.
Robert L. King,
Assistant Secretary for Postsecondary Education.
Mark Schultz,
Delegated the authority to perform the functions and duties of the Assistant Secretary for the Office of Special Education and Rehabilitative Services.

[FR Doc. 2020-04148 Filed 2-28-20; 8:45 am]

BILLING CODE 4000-01-P